DEPARTMENT OF HEALTH AND HUMAN SERVICES

Agency for Healthcare Research and Quality

Statement of Organization, Functions, and Delegations of Authority

Part E, Chapter E (Agency for Healthcare Research and Quality), of the Statement of Organization, Functions, and Delegations of Authority for the Department of Health and Human Services (61 FR 15955-58, April 10, 1996, most recently amended at 81 FR 22271, on April 15, 2016) is amended to reflect recent organizational changes. The specific amendments are as follows:

I. Under Section E-10, Organization, delete all components and replace with the following:

A. Office of the Director.

B. Center for Evidence and Practice Improvement.

C. Center for Quality Improvement and Patient Safety.

D. Center for Financing, Access, and Cost Trends.

E. Office of Communications.

F. Office of Extramural Research, Education, and Priority Populations.

G. Office of Management Services.

II. Under Section E-20, Functions, delete Center for Evidence and Practice Improvement, Center for Quality Improvement and Patient Safety, Center for Delivery, Organization, and Markets, and Center for Financing Access and Cost Trends in its entirety and replace with the following:

Center for Evidence and Practice Improvement. Conducts and supports research on health care delivery and practice improvement across the continuum of care from prevention to chronic care management to end of life care. Specifically: (1) Synthesizes evidence and translates science for multiple stakeholders; (2) advances decision and communication sciences to facilitate informed treatment and health care decision making by patients and their health care providers; (3) explores how health information technology can improve clinical decision making and health care quality; (4) catalyzes and promotes sustainability of improvements in clinical practice across health care settings through research, demonstration projects, and partnership development; (5) studies the roles that health professionals, health systems, and organizations play in the provision of health care services; (6) examines the role of health systems in improving quality and efficiency of health care services; and (7) operates the National Center for Excellence in Primary Care Research.

Shall be organized into the following five divisions:

Division of Evidence-Based Practice Centers: Produces evidence syntheses by conducting systematic evidence reviews using robust and rigorous methodologies and advances the methods of evidence synthesis to ensure scientific rigor and unbiased reviews.

Division of U.S. Preventive Services Task Force: Provides scientific, administrative, and dissemination support for the independent U.S. Preventive Services Task Force, enabling the Task Force to make evidence-based recommendations on clinical preventive services.

Division of Digital Healthcare Research: Via advanced analytics to enhance health care decision making, the division focuses on conducting research to determine how the parts of the ever evolving digital health care ecosystem can best come together to affect transformational value for patients and their families in the safe delivery of care.

Division of Practice Improvement: Advances the science of clinical practice improvement including shared decision making; evaluates and supports innovative models of practice transformation in diverse settings; facilitates communities of learning to promote the implementation of evidence for practice improvement; and serves as a trusted source of evidence and tools for methods, measures, and evaluation of practice improvement.

Division of Healthcare Delivery and Systems Research: Develops new evidence, tools and measures to understand how health care is delivered in the U.S., emphasizing the roles that physicians, physician practices, hospitals, health systems, other medical professionals, and organizations play in the provision of health care services.

Center for Quality Improvement and Patient Safety. Measures performance of the U.S. health care system; identifies, promotes, and supports evidence-based research; and provides information that is used to improve the safety and quality of health care. Collaborates with stakeholders across the health care system to: Implement evidence-based practices, accelerate and amplify improvements in quality and patient safety.

Shall be organized into the following four divisions:

Division of General Patient Safety: Leads intramural and extramural research that focuses on the risks and harms inherent in the delivery of health care for a variety of conditions in all health care settings, including the hospital, ambulatory and long-term care facilities, and the home. Develops, tests, and facilitates understanding and use of evidence-based tools and information to improve the quality and safety of health care and reduce the risk of patient harm. Major topics of research and tool development include health care leadership and teamwork, safe medication use, health care simulation, diagnostic performance, care coordination, measurement, patient safety reporting and surveillance, detection and analysis, patient and family engagement, and health care facility design.

Division of Patient Safety Organizations: Administers the Patient Safety Organization (PSO) Program in accordance with the Patient Safety and Quality Improvement Act of 2005. Approves and oversees PSOs that apply for official federal “listing.” Publishes Common Formats for measuring adverse events in hospitals.

Division of Healthcare-Associated Infections (HAI): Leads AHRQ's robust program of research studies and implementation projects that has two closely related purposes: To prevent, reduce, and ultimately eliminate HAIs; and to combat antibiotic resistance. Fosters the creation of new knowledge and the generation of evidence to develop improved methods for preventing health care associated infections and improving antibiotic use in multiple health care settings, including hospital acute care, long-term care, and ambulatory care, and promotes the wide-scale implementation of effective interventions for preventing healthcare-associated infections and promoting antibiotic stewardship in all these care settings.

Division of Quality Measurement and Improvement: Conducts quality measurement and evaluates improvement activities in order to improve healthcare delivered in the United States. Seeks opportunities to integrate various measurement efforts in order to provide a more complete picture of quality and safety. Promotes enhanced collaboration and coordination of measurement efforts, including integration where possible, in order to serve the needs of multiple stakeholders who use measurement, such as front-line clinicians, patients, safety and quality experts, administrators, researchers, payers, policymakers, and others. Conducts focused measurement programs including the National Healthcare Quality and Disparities Report, the Consumer Assessment of Healthcare Providers and Systems, Surveys on Patient Safety Culture programs, and the AHRQ Quality Indicators.

Center for Financing, Access, and Cost Trends. Conducts and supports studies of the use of and expenditures for health care services, of the sources of payment for that care, of the availability and cost of health insurance, and of access to health care. Administers surveys and develops large data sets to support health care policy and behavioral research and analysis. The mission includes the production of the Medical Expenditure Panel Survey (MEPS) and the Healthcare Cost and Utilization Project (HCUP).

Shall be organized into the following four divisions:

Division of Statistical Research and Methods (DSRM): Responsible for a wide range of statistical activities (e.g., determining sample size and allocation, data imputation and weighting strategies) for the design and implementation of the three components (household, provider, and insurance/employer) of MEPS and for planning and conducting research to help guide and improve these activities.

Division of Research and Modeling (DRM): Conducts studies of the access to and costs and financing of health care and is responsible for the conduct of research and the development of models and databases in support of the overall mission of AHRQ and CFACT. Provides ongoing analytic support to MEPS and HCUP design and implementation. Develops and maintains various simulation models, components, databases, tools, and research products that enhance the value of the AHRQ data. Utilizes these models and databases to conduct microsimulation analyses of the effects, on households and individuals, of health policies embodied in current law, and the potential effects of health care policies embodied in generic versions of proposed health care reforms.

Division of Healthcare Data and Analytics (DHDA): Leads the development, production, and improvement of health care delivery data and tools for use in research and policy analysis with a focus on HCUP and the supply side of the medical care market. Directs, conducts, and supports research on health care delivery and utilization to examine issues related to access, utilization, cost, safety, and quality of hospital, physician, and other services. Disseminates data, tools, and statistics to facilitate and inform public and private health policy analysis, clinical studies, and socioeconomic research to inform public and private healthcare policy.

Division of Survey Operations (DSO): Responsible for the MEPS data collection, processing and distribution activities. These responsibilities include directing data collection for the three major MEPS surveys, preparing data files for public use, conducting workshops on the appropriate use of MEPS data and the development of a website for disseminating MEPS products. Publishes statistical briefs, research findings and a series of methodological reports. Administers a data center at which researchers can, with approved projects and under specific technical controls and privacy protocols, access data that cannot be released to the public for use in specific research activities. Maintains liaisons with individuals and organizations engaged in health services research both within and outside the federal government.

All delegations and redelegations of authority to officers and employees of the Agency for Healthcare Research and Quality that were in effect immediately prior to the effective date of this reorganization shall continue in effect pending further redelegation provided they are consistent with this reorganization.

These changes are effective upon date of signature.

Dated: September 18, 2019.
Gopal Khanna,
Director.

[FR Doc. 2019-20218 Filed 9-18-19; 8:45 am]

BILLING CODE 4160-90-P